NUCLEAR REGULATORY COMMISSION

Progress Energy Carolinas, Inc., Shearon Harris Nuclear Power Plant, Units 2 and 3 Combined License Application Notice of Intent To Prepare an Environmental Impact Statement and Conduct Scoping Process; Correction

AGENCY: Nuclear Regulatory Commission.

ACTION: Notice of Intent; Correction.

SUMMARY: This document corrects a notice appearing in the Federal Register on May 22, 2008, (73 FR 29785) that notice of intent to prepare an environmental impact statement and conduct scoping process. This action is necessary to correct an erroneous date.

FOR FURTHER INFORMATION CONTACT: Please contact Dr. Donald Palmrose, Project Manager at (301) 415-3803 or via e-mail at donald.palmrose@nrc.gov.

SUPPLEMENTARY INFORMATION: On page 29787, in the first column, in the first line of column, the date is changed from “July 18, 2008,” to read “July 25, 2008.”

Dated at Rockville, Maryland, this 23rd day of May, 2008.
For the Nuclear Regulatory Commission.
Nilesh C. Chokshi,
Acting Director, Division of Site and Environmental Reviews, Office of New Reactors.

[FR Doc. E8-12460 Filed 6-3-08; 8:45 am]

BILLING CODE 7590-01-P